DEPARTMENT OF ENERGY

Federal Energy Regulatory Commission

Combined Notice of Filings #1

Take notice that the Commission received the following electric rate filings:

Docket Numbers: ER10-2290-002; ER10-2187-001.

Applicants: Avista Corporation.

Description: Third Amendment to July 1, 2013 Triennial Market Power Update for the Northwest Region of the Avista Corporation, et. al.

Filed Date: 3/6/14.

Accession Number: 20140306-5020.

Comments Due: 5 p.m. ET 3/27/14.

Docket Numbers: ER13-2315-001.

Applicants: Pennsylvania Electric Company, PJM Interconnection, L.L.C.

Description: FirstEnergy Service Co and Penelec submit compliance filing per 10/22/2013 Order to be effective 2/12/2014.

Filed Date: 3/14/14.

Accession Number: 20140314-5052.

Comments Due: 5 p.m. ET 4/4/14.

Docket Numbers: ER14-59-001.

Applicants: The Potomac Edison Company, West Penn Power Company, Monongahela Power Company, PJM Interconnection, L.L.C.

Description: FirstEnergy and Potomac Edison Co submit compliance filing per 11/21/2013 Order to be effective 2/14/2014.

Filed Date: 3/14/14.

Accession Number: 20140314-5062.

Comments Due: 5 p.m. ET 4/4/14.

Docket Numbers: ER14-1485-000.

Applicants: PJM Interconnection, L.L.C.

Description: Amendments to Schedule 12—Appendix re RTEP approved by PJM Board Feb 12, 2014 to be effective 6/11/2014.

Filed Date: 3/13/14.

Accession Number: 20140313-5141.

Comments Due: 5 p.m. ET 4/3/14.

Docket Numbers: ER14-1486-000.

Applicants: Desert Sunlight 250, LLC.

Description: Desert Sunlight 250, LLC Order No. 784 Compliance Filing to be effective 7/18/2013.

Filed Date: 3/13/14.

Accession Number: 20140313-5150.

Comments Due: 5 p.m. ET 4/3/14.

Docket Numbers: ER14-1487-000.

Applicants: Desert Sunlight 300, LLC.

Description: Desert Sunlight 300, LLC Order No. 784 Compliance Filing to be effective 7/18/2013.

Filed Date: 3/13/14.

Accession Number: 20140313-5151.

Comments Due: 5 p.m. ET 4/3/14.

Docket Numbers: ER14-1488-000.

Applicants: Diablo Winds, LLC.

Description: Diablo Winds, LLC Order No. 784 Compliance Filing to be effective 7/21/2010.

Filed Date: 3/13/14.

Accession Number: 20140313-5152.

Comments Due: 5 p.m. ET 4/3/14.

Docket Numbers: ER14-1489-000.

Applicants: FPL Energy Cabazon Wind, LLC.

Description: FPL Energy Cabazon Wind, LLC Order No. 784 Compliance Filing to be effective 7/21/2010.

Filed Date: 3/13/14.

Accession Number: 20140313-5153.

Comments Due: 5 p.m. ET 4/3/14.

Docket Numbers: ER14-1490-000.

Applicants: FPL Energy Green Power Wind, LLC.

Description: FPL Energy Green Power Wind, LLC Order No. 784 Compliance Filing to be effective 7/22/2010.

Filed Date: 3/13/14.

Accession Number: 20140313-5155.

Comments Due: 5 p.m. ET 4/3/14.

Docket Numbers: ER14-1491-000.

Applicants: FPL Energy Montezuma Wind, LLC.

Description: FPL Energy Montezuma Wind, LLC Order No. 784 Compliance Filing to be effective 11/20/2010.

Filed Date: 3/13/14.

Accession Number: 20140313-5157.

Comments Due: 5 p.m. ET 4/3/14.

Docket Numbers: ER14-1492-000.

Applicants: FPL Energy New Mexico Wind, LLC.

Description: FPL Energy New Mexico Wind, LLC Order No. 784 Compliance Filing to be effective 7/22/2010.

Filed Date: 3/13/14.

Accession Number: 20140313-5158.

Comments Due: 5 p.m. ET 4/3/14.

Docket Numbers: ER14-1493-000.

Applicants: Genesis Solar, LLC.

Description: Genesis Solar, LLC Order No. 784 Compliance Filing to be effective 10/1/2013.

Filed Date: 3/13/14.

Accession Number: 20140313-5159.

Comments Due: 5 p.m. ET 4/3/14.

Docket Numbers: ER14-1494-000.

Applicants: Hatch Solar Energy Center I, LLC.

Description: Hatch Solar Energy Center I, LLC Order No. 784 Compliance Filing to be effective 5/26/2011.

Filed Date: 3/13/14.

Accession Number: 20140313-5160.

Comments Due: 5 p.m. ET 4/3/14.

Docket Numbers: ER14-1495-000.

Applicants: High Winds, LLC.

Description: High Winds, LLC Order No. 784 Compliance Filing to be effective 7/26/2010.

Filed Date: 3/13/14.

Accession Number: 20140313-5161.

Comments Due: 5 p.m. ET 4/3/14.

Docket Numbers: ER14-1496-000.

Applicants: Mountain View Solar, LLC.

Description: Mountain View Solar, LLC Order No. 784 Compliance Filing to be effective 11/1/2013.

Filed Date: 3/13/14.

Accession Number: 20140313-5162.

Comments Due: 5 p.m. ET 4/3/14.

Docket Numbers: ER14-1497-000.

Applicants: NextEra Energy Montezuma II Wind, LLC.

Description: NextEra Energy Montezuma II Wind, LLC Order No. 784 Compliance Filing to be effective 11/2/2011.

Filed Date: 3/13/14.

Accession Number: 20140313-5163.

Comments Due: 5 p.m. ET 4/3/14.

Docket Numbers: ER14-1498-000.

Applicants: North Sky River Energy, LLC.

Description: North Sky River Energy, LLC Order No. 784 Compliance Filing to be effective 10/13/2012.

Filed Date: 3/13/14.

Accession Number: 20140313-5164.

Comments Due: 5 p.m. ET 4/3/14.

Docket Numbers: ER14-1499-000.

Applicants: Perrin Ranch Wind, LLC.

Description: Perrin Ranch Wind, LLC Order No. 784 Compliance Filing to be effective 1/1/2012.

Filed Date: 3/13/14.

Accession Number: 20140313-5165.

Comments Due: 5 p.m. ET 4/3/14.

Docket Numbers: ER14-1500-000.

Applicants: Red Mesa Wind, LLC.

Description: Red Mesa Wind, LLC Order No. 784 Compliance Filing to be effective 11/25/2010.

Filed Date: 3/13/14.

Accession Number: 20140313-5166.

Comments Due: 5 p.m. ET 4/3/14.

Docket Numbers: ER14-1501-000.

Applicants: Sky River LLC.

Description: Sky River LLC Order No. 784 Compliance Filing to be effective 7/27/2010.

Filed Date: 3/13/14.

Accession Number: 20140313-5167.

Comments Due: 5 p.m. ET 4/3/14.

Docket Numbers: ER14-1502-000.

Applicants: Vasco Winds, LLC.

Description: Vasco Winds, LLC Order No. 784 Compliance Filing to be effective 11/1/2011.

Filed Date: 3/13/14.

Accession Number: 20140313-5168.

Comments Due: 5 p.m. ET 4/3/14.

Docket Numbers: ER14-1503-000.

Applicants: Windpower Partners 1993, LLC.

Description: Windpower Partners 1993, LLC Order No. 784 Compliance Filing to be effective 12/8/2011.

Filed Date: 3/13/14.

Accession Number: 20140313-5169.

Comments Due: 5 p.m. ET 4/3/14.

Docket Numbers: ER14-1504-000.

Applicants: NextEra Energy Power Marketing, LLC.

Description: NextEra Energy Power Marketing, LLC Order No. 784 Compliance Filing to be effective 7/26/2010.

Filed Date: 3/13/14.

Accession Number: 20140313-5170.

Comments Due: 5 p.m. ET 4/3/14.

Docket Numbers: ER14-1505-000.

Applicants: Employers' Energy Alliance of Pennsylvania, Inc.

Description: Notice of Cancellation to be effective 5/13/2014.

Filed Date: 3/14/14.

Accession Number: 20140314-5041.

Comments Due: 5 p.m. ET 4/4/14.

Docket Numbers: ER14-1506-000.

Applicants: New York Independent System Operator, Inc.

Description: 205 Filing to clarify OATT & MST price correction tariff provisions to be effective 5/13/2014.

Filed Date: 3/14/14.

Accession Number: 20140314-5063.

Comments Due: 5 p.m. ET 4/4/14.

Docket Numbers: ER14-1507-000.

Applicants: PacifiCorp.

Description: OATT Attachment N Errata to be effective 11/15/2013.

Filed Date: 3/14/14.

Accession Number: 20140314-5093.

Comments Due: 5 p.m. ET 4/4/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 14, 2014.
Nathaniel J. Davis, Sr.,
Deputy Secretary.

[FR Doc. 2014-06414 Filed 3-24-14; 8:45 am]

BILLING CODE 6717-01-P